NATIONAL ARCHIVES AND RECORDS ADMINISTRATION

Office of the Federal Register

Dates Correction

Correction

In the Notices section beginning on page 15401 in the issue of March 29th, 2010, make the following correction:

On pages 15401 through 15499, the date at the top of each page is corrected to read “Monday, March 29, 2010”.

This change will be made to all versions of the Federal Register appearing online. The print edition of Monday, March 29, 2010 will not be reprinted.

[FR Doc. 2010-7528 Filed 3-31-10; 8:45 am]

BILLING CODE 1505-01-D